DEPARTMENT OF ENERGY

Federal Energy Regulatory Commission

[Docket No. RP00-632-000]

Dominion Transmission, Inc.; Notice of Technical Conference

December 12, 2000.

In the Commission's order issued on October 31, 2000,¹ the Commission directed that a technical conference be held to address issues raised by the filing.

¹ 93 FERC 61,119 (2000).

Take notice that the technical conference will be held on Thursday, January 11, 2001, at 10 a.m., in a room to be designated at the offices of the Federal Energy Regulatory Commission, 888 First Street, NE., Washington, DC 20426.

All interested parties and Staff are permitted to attend.

David P. Boergers,
Secretary.

[FR Doc. 00-32075 Filed 12-15-00; 8:45 am]

BILLING CODE 6717-01-M